DEPARTMENT OF THE TREASURY

Submission for OMB Review; Comment Request

November 2, 2004.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before December 10, 2004 to be assured of consideration.

Internal Revenue Service (IRS)

OMB Number: 1545-1631.

Regulation Project Number: REG-209619-93 NPRM.

Type of Review: Extension.

Title: Escrow Funds and Other Similar Funds.

Description: Section 468B(g) requires that income earned on escrow accounts, settlement funds, and similar funds be subject to current taxation. This section authorizes the Secretary to issue regulations providing for the current taxation of these accounts and funds as grantor trusts or otherwise. The proposed regulations would amend the final regulations for qualified settlement funds (QFSs) and would provide new rules for qualified escrows and qualified trusts used in deferred section 1031 exchanges; pre-closing escrows; contingent at-closing escrows; and disputed ownership funds.

Respondents: Business or other for-profit, Individuals or households, Not-for-profit institutions, Federal Government, State, local or tribal government.

Estimated Number of Respondents: 9,300.

Estimated Burden Hours Respondent: 30 minutes.

Frequency of response: On occasion.

Estimated Total Reporting Burden: 4,650 hours.

OMB Number: 1545-1889.

Notice Number: Notice 2004-59.

Type of Review: Extension.

Title: Plan Amendments Following Election of Alternative Deficit Reduction Contribution.

Description: This notice sets forth answers to certain questions raised by the public when there is an amendment to an election to take advantage of the alternative deficit reduction contribution described in Pub. L. 108-218. The notice requires of what are designated as restricted amendments.

Respondents: Business or other for-profit, Not-for-profit institutions.

Estimated Number of Respondents: 100.

Estimated Burden Hours Respondent: 4 hours.

Frequency of response: On occasion.

Estimated Total Reporting Burden: 400 hours.

Clearance Officer: R. Joseph Durbala, (202) 622-3634, Internal Revenue Service, Room 6516, 1111 Constitution Avenue, NW., Washington, DC 20224.

OMB Reviewer: Joseph F. Lackey, Jr., (202) 395-7316, Office of Management and Budget, Room 10235, New Executive Office Building, Washington, DC 20503.

Lois K. Holland,
Treasury PRA Clearance Officer.

[FR Doc. 04-25050 Filed 11-9-04; 8:45 am]

BILLING CODE 4830-01-P